DEPARTMENT OF TRANSPORTATION

Federal Aviation Administration

14 CFR Part 39

[Docket No. FAA-2006-25721; Directorate Identifier 2006-NM-132-AD; Amendment 39-14748; AD 2006-18-09]

RIN 2120-AA64

Airworthiness Directives; BAE Systems (Operations) Limited Model ATP Airplanes

AGENCY: Federal Aviation Administration (FAA), Department of Transportation (DOT).

ACTION: Final rule; request for comments.

SUMMARY: The FAA is superseding an existing airworthiness directive (AD), which applies to all BAe Systems (Operations) Limited Model ATP airplanes. That AD currently requires revising the Airworthiness Limitations Section (ALS) of the Instructions for Continued Airworthiness (ICA) to incorporate life limits for certain items and inspections to detect fatigue cracking in certain structures; to incorporate new inspections to detect fatigue cracking of certain significant structural items (SSIs); and to revise life limits for certain equipment and various components. This new AD requires revising the ALS of the ICA to include additional and revised inspections of the fuselage. This AD results from the manufacturer review of fatigue test results that identified additional and revised inspections of the fuselage that are necessary in order to ensure the continued structural integrity of the airplane. We are issuing this AD to detect and correct fatigue cracking of certain structural elements, which could result in reduced structural integrity of the airplane and consequent rapid decompression of the airplane.

DATES: This AD becomes effective September 21, 2006.

The Director of the Federal Register approved the incorporation by reference of a certain publication listed in the AD as of September 21, 2006.

We must receive comments on this AD by November 6, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this AD.

FOR FURTHER INFORMATION CONTACT: Todd Thomspon, Aerospace Engineer, International Branch, ANM-116, FAA, Transport Airplane Directorate, 1601 Lind Avenue, SW., Renton, Washington 98057-3356; telephone (425) 227-1175; fax (425) 227-1149.

SUPPLEMENTARY INFORMATION:

Discussion

On September 6, 2005, we issued AD 2005-19-03, amendment 39-14268 (70 FR 57126, September 30, 2005), for all BAe Systems (Operations) Limited Model ATP airplanes. That AD requires revising the Airworthiness Limitations Section (ALS) of the Instructions for Continued Airworthiness to incorporate life limits for certain items and inspections to detect fatigue cracking in certain structures. That AD also requires revising the ALS of the Instructions for Continued Airworthiness to incorporate new inspections to detect fatigue cracking of certain significant structural items (SSIs) and to revise life limits for certain equipment and various components. That AD resulted from a determination that existing inspection techniques are not adequate for certain SSIs and by the revision of certain life limits. We issued that AD to detect and correct fatigue cracking of certain structural elements, which could adversely affect the structural integrity of these airplanes.

Actions Since Existing AD Was Issued

Since we issued AD 2005-19-03, the European Aviation Safety Agency (EASA), which is the airworthiness authority for European Union, notified us that an unsafe condition may exist on all BAE Systems (Operations) Limited Model ATP airplanes. The EASA advises that a manufacturer review of fatigue test results identified additional and revised inspections for the fuselage that are necessary in order to ensure the continued structural integrity of the airplane. Inadequate inspection techniques or replacement intervals could result in fatigue cracking of certain structural elements, which could result in reduced structural integrity of the airplane and consequent rapid decompression of the airplane.

Relevant Service Information

BAE Systems (Operations) Limited has issued Service Bulletin ATP-51-002, dated December 20, 2005. The service bulletin describes structural inspections of the fuselage for cracking, among other actions. The service bulletin describes additional inspections and revises the compliance times of certain existing inspections. The service bulletin also specifies repairs if necessary. Accomplishing the actions specified in the service information is intended to adequately address the unsafe condition. The EASA mandated the service information and issued airworthiness directive 2006-0090, dated April 20, 2006, to ensure the continued airworthiness of these airplanes in the European Union.

FAA's Determination and Requirements of This AD

This airplane model is manufactured in the United Kingdom and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to detect and correct fatigue cracking of certain structural elements, which could result in reduced structural integrity of the airplane and consequent rapid decompression of the airplane. This AD supersedes AD 2005-19-03 and retains the requirements of the existing AD. This AD also requires revising the ALS of the Instructions for Continued Airworthiness to include new and revised inspections of the fuselage specified in the service bulletin described previously.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Cost per airplane
ALS Revisions | 1 | $80 | $80

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-25721; Directorate Identifier 2006-NM-132-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14268 (70 FR 57126, September 30, 2005) and by adding the following new airworthiness directive (AD):

2006-18-09 BAE Systems (Operations) Limited (Formerly British Aerospace Regional Aircraft): Amendment 39-14748. Docket No. FAA-2006-25721; Directorate Identifier 2006-NM-132-AD.

Effective Date

(a) This AD becomes effective September 21, 2006.

Affected ADs

(b) This AD supersedes AD 2005-19-03.

Applicability

(c) This AD applies to all BAE Systems (Operations) Limited Model ATP airplanes, certificated in any category.

Note 1: This AD requires revisions to certain operator maintenance documents to include new and revised inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (k) of this AD. The request should include a description of changes to the required inspections that will ensure the continued damage tolerance of the affected structure. The FAA has provided guidance for this determination in Advisory Circular (AC) 25-1529.

Unsafe Condition

(d) This AD results from the manufacturer review of fatigue test results that identified additional and revised inspections for the fuselage that are necessary in order to ensure the continued structural integrity of the airplane. We are issuing this AD to detect and correct fatigue cracking of certain structural elements, which could result in reduced structural integrity of the airplane and consequent rapid decompression of the airplane.

Compliance

(e) You are responsible for having the actions required by this AD performed within the compliance times specified, unless the actions have already been done.

Restatement of Requirements of AD 2005-19-03

Airworthiness Limitations Revision Specified in AD 2000-26-10

(f) Within 30 days after February 7, 2001 (the effective date of AD 2000-26-10, amendment 39-12060), revise the Airworthiness Limitations section (ALS) of the Instructions for Continued Airworthiness according to a method approved by the Manager, International Branch, ANM-116, Transport Airplane Directorate, FAA. One approved method is by incorporating Section 05-00-00, dated August 15, 1997, of the British Aerospace ATP Aircraft Maintenance Manual (AMM), dated October 15, 1999, into the ALS. This section references other chapters of the AMM. The applicable revision level of the referenced chapters is that in effect on February 7, 2001. Doing the revision specified in paragraph (g) of this AD replaces Chapters 27, 32, 53, and 54 listed in Section 05-10-11 and Chapters 52, 53, 54, 55, and 57 listed in Section 05-10-17 that are in effect on February 7, 2001, with Chapters 27, 32, 53, and 54 listed in Section 05-10-11, “Mandatory Life Limitations (Airframe)”; and Chapters 52, 53, 54, 55, and 57 listed in Section 05-10-17, “Structurally Significant Items (SSIs)”; both dated July 15, 2004; of the British Aerospace ATP AMM.

Airworthiness Limitations Specified in AD 2005-19-03

(g) Within 30 days after September 28, 2005 (the effective date of AD 2005-19-03), revise the ALS of the Instructions for Continued Airworthiness according to a method approved by the Manager, International Branch, ANM-116, Transport Airplane Directorate, FAA. One approved method is by incorporating the tasks for Chapters 27, 32, 53, and 54 listed in Section 05-10-11, “Mandatory Life Limitations (Airframe)”; and the tasks for Chapters 52, 53, 54, 55, and 57 listed in Section 05-10-17, “Structurally Significant Items (SSIs)”; both dated July 15, 2004; of the British Aerospace ATP AMM; into the ALS. These chapters replace the corresponding chapters in Section 05-00-00, dated August 15, 1997, of the British Aerospace ATP AMM as specified in paragraph (f) of this AD. Doing the revision specified in paragraph (h) of this AD replaces certain Chapter 52 and 53 tasks listed in Section 05-10-17, “Structurally Significant Items (SSIs)”, dated July 15, 2004, of the British Aerospace ATP AMM, with the corresponding Chapter 52 and 53 tasks listed BAE Systems (Operations) Limited Service Bulletin ATP-51-002, dated December 20, 2005.

New Requirements of This AD

New and Revised Airworthiness Limitations

(h) Within 30 days after the effective date of this AD, revise the ALS of the Instructions for Continued Airworthiness by incorporating the new and revised tasks for Chapters 52 and 53 as specified in BAE Systems (Operations) Limited Service Bulletin ATP-51-002, dated December 20, 2005, into the ALS. The revised Chapter 52 and 53 tasks replace the corresponding Chapter 52 and 53 tasks in Section 05-10-17, “Structurally Significant Items (SSIs)”, dated July 15, 2004, of the British Aerospace ATP AMM, as specified in paragraph (g) of this AD.

(i) Except as provided by paragraph (k) of this AD: After the actions specified in paragraphs (f), (g), and (h) of this AD have been accomplished, no alternative inspections or inspection intervals may be approved for the structural elements specified in the documents listed in paragraphs (f), (g), and (h) of this AD.

No Reporting Required

(j) Although BAE Systems (Operations) Limited Service Bulletin ATP-51-002, dated December 20, 2005, specifies to submit certain information to the manufacturer, this AD does not include that requirement.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) British airworthiness directive G-2004-0020, dated August 25, 2004, and European Aviation Safety Agency (EASA) airworthiness directive 2006-0090, dated April 20, 2006, also address the subject of this AD.

Material Incorporated by Reference

(m) You must use BAE Systems (Operations) Limited Service Bulletin ATP-51-002, dated December 20, 2005, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 23, 2006.
Kalene C. Yanamura,
Acting Manager, Transport Airplane Directorate, Aircraft Certification Service.

[FR Doc. E6-14631 Filed 9-5-06; 8:45 am]

BILLING CODE 4910-13-P